DEPARTMENT OF HEALTH AND HUMAN SERVICES

Centers for Medicare & Medicaid Services

42 CFR Parts 405 and 419

[CMS-1206-CN2]

RIN 0938-AL19

Medicare Program; Changes to the Hospital Outpatient Prospective Payment System and Calendar Year 2003 Payment Rates; and Changes to Payment Suspension for Unfiled Cost Reports; Correction

AGENCY: Centers for Medicare & Medicaid Services (CMS), HHS.

ACTION: Correction of final rule with comment period.

SUMMARY: This document corrects errors that appeared in the final rule with comment period published in the Federal Register on November 1, 2002, entitled “Changes to the Hospital Outpatient Prospective Payment System and Calendar Year 2003 Payment Rates; and Changes to Payment Suspension for Unfiled Cost Reports.” This notice is a supplement to the November 1, 2002, final rule with comment period and to the November 15, 2002, correction notice, which added section “XVI. Waiver of Proposed Rulemaking.”

EFFECTIVE DATE: January 1, 2003.

FOR FURTHER INFORMATION CONTACT: Anita Heygster, (410) 786-0378.

SUPPLEMENTARY INFORMATION:

I. Background

In FR Doc. 02-27548 of November 1, 2002 (67 FR 66719), there were several technical errors. The errors include incorrect or potentially misleading responses, incorrect description of comments, and revisions to information contained in Addenda A and B. In some cases, the errors were omissions, typographical errors, mathematical miscalculations or were caused by inadvertent failure to perform calculations or perform other functions as described in the final rule. We would ordinarily publish a notice of proposed rulemaking in the Federal Register and invite public comment on the proposed rule. This procedure can be waived, however, if an agency finds good cause that a notice-and-comment procedure is impracticable, unnecessary, or contrary to the public interest and incorporates a statement of the finding and its reasons in the rule issued. We find good cause to waive notice and comment procedures for this correction notice as set forth in section III, “Waiver of Proposed Rulemaking and Waiver of 30-Day Delay in Effective Date,” below.

II. Correction of Errors

On page 66719, in column 2, in the definition of CPT, we cited the 2002 Current Procedural Terminology (CPT), although the CPT codes used for the 2003 Hospital Outpatient Prospective Payment System (OPPS) are those found in the American Medical Association's 2003 Current Procedural Terminology. Remove 2002 and insert 2003.

On page 66724, in column 3, under the second line following “Option 2:”, we incorrectly cited as a Healthcare Common Procedure Coding System (HCPCS) code 703690. This is not a HCPCS code. Remove 703690 and insert 70390.

On page 66724, in column 3, under the forth line following “Option 3:”, we incorrectly cited as a HCPCS code 7036736 and we omitted one HCPCS code that was presented to the APC Panel as discussed in the preamble. Remove 7036736 and insert 70373, 70120.

On page 66729, we inadvertently included two duplicate comments and responses on the issue of whether to move endometrial ablation out of a new technology Ambulatory Payment Classification (APC) for 2003. Remove the first comment and response under the heading “New Technology APC Issues” in column 2 and the second duplicative comment and response in column 3. The comment and response on this issue appear correctly on page 66737 (column 3, 4th comment and response). The comment and response on page 66737 are the correct comment and response on this issue; those being removed were mistakenly published.

On pages 66730, 66818, and 66914, we inadvertently included incorrect information that we intended to replace with correct information before publication of the final rule. Specifically, on page 66730, we inadvertently included an incorrect APC assignment for HCPCS codes 77523 and 77525. Remove Table 3 entries for HCPCS codes 77523, Proton Beam therapy intermediate, and 77525, Proton beam therapy complex. On page 66818, remove Addendum A entry for APC 650, Proton Beam Therapy. On page 66914, change the APC for HCPCS codes 77523 and 77525 from APC 650 to APC 712, and change payment and copayment amounts as described in corrections to Addendum B. Remove the first full response on page 66728, in column 3, and replace it with the following: “Response: We agree that codes for simple proton beam radiation therapy (CPT code 77522 and CPT code 77520) should be placed in a different APC than codes for intermediary (CPT code 77523) and complex (CPT code 77525) radiation therapy. However, it would be inappropriate to return codes for simple proton beam therapy to APCs for new technology services because we believe we have sufficient claims data to integrate them into the OPPS. Therefore, we have placed them in APC 664.

However, we agree that claims data are not sufficiently robust for us to move intermediate and complex proton beam therapy (CPT codes 77523 and 77525) out of APC 712. Therefore, we will retain these codes in APC 712 for the 2003 OPPS.”

On page 66732, in column 1, in the first line carried over from the preceding page, we incorrectly stated that HCPCS code G0258 was effective on October 1, 2002, when it was effective April 1, 2002. Remove “October 1, 2002”, and insert “April 1, 2002”. HCPCS code G0258 was made effective April 1, 2002, and was removed effective January 1, 2003. The effective date of January 1, 2003, which is shown in Table 4—New G Codes for 2002 and 2003 for Which There are Final APC Assignments, is correct because January 1, 2003, is the effective date of the deletion of the code and the change of the status indicator to X. The entry in Addendum B on page 66979 correctly shows the payment amount and the minimum unadjusted copayment that will apply during the removed code's grace period.

On page 66735, in column 2, the first response under item #4, we mistakenly said that the APC payment includes both the cost of the procedure and the cost for the left ventricular lead. Remove the sentence that says: “We believe the APC placement accounts for the cost of the procedure and for the lead.” Insert the following sentence in its place: “The APC payment accounts for the cost of the procedure and cost of the left ventricular lead is billed under the appropriate device category “C” code.”

On page 66741, in column 1, we failed to acknowledge and address a comment that objected to removing CPT code 92986 from the inpatient only list. Remove the response in this column and replace it with the following: “Response: We agree with the commenters and with the APC Panel's recommendations that CPT code 47001 be payable under the OPPS beginning in 2003. Because this is an add-on code, payment will be packaged with the payment for the surgical procedure with which it is billed. We are making final our proposal to remove this code from the inpatient list but we will consider presenting this concern to the APC panel.

“The comment that urged that CPT code 92986, Percutaneous balloon valvuloplasty; aortic value, not be assigned to APC 0083 did not contain an explanation for the allegation that it cannot be performed safely in an outpatient setting. In the absence of such justification and in the absence of other comments disagreeing with our proposal to pay under the OPPS for the 41 CPT codes listed in Table 6 of the August 2002 proposed rule (67 FR 52115), we are making these proposed changes final.”

On page 66745, in Table 6, we included an incorrect APC assignment for an APC. Remove 693A and insert 648. APC 693 was split into two APCs to enable us to establish a weight for the services that require devices based on the claims on which the devices were billed. The APC with devices is APC 648, Breast Reconstruction with Prosthesis. It was properly shown in Addendum A of the November 1, 2002, final rule.

On page 66756, in column 2, at the end of the first complete paragraph, replace the comma after “misuse” with a period, and remove the following words “or received marketing approval based on the use of surrogate outcomes.” We never intended to perform reasonable and necessary determinations on new technology solely because FDA marketing approval was based on surrogate outcomes.

On page 66760, in Table 9, in the section titled “Pass-through Devices Effective January 2003,” we reversed the HCPCS codes for two items in the table (HCPCS codes C2614 and C2632). Remove HCPCS code C2614 and APC 2614 and replace them with HCPCS code C2632 and APC 2632. In the same location, remove HCPCS code C2632 and APC 2632 and replace them with HCPCS code C2614 and APC 2614.

On page 66768, in column 1, first comment at the top of the column, we incorrectly printed an exact replica of the immediately preceding comment. Remove the duplicate comment.

On page 66772, we failed to include a drug that meets our criteria as an orphan drug. HCPCS code J1785, Injection imiglucerase/unit meets the criteria for an orphan drug as specified in the November 1, 2001, final rule on page 66772. Remove the first full response in column 3 and replace it with the following: “Response: After reviewing the comments and reexamining whether there were other orphan drugs than the three we proposed to pay separately, we have decided to remove four orphan drugs that do not have any other non-orphan indications from the OPPS system and will pay them on a reasonable cost basis. In addition to the three drugs we proposed to treat as orphan drugs in the August 9, 2002, proposed rule, we have determined that J1785, Injection imiglucerase/unit, meets the criteria of having no indication other than an orphan indication and therefore meets our definition of an orphan drug and will be paid on a reasonable cost basis. Other drugs that have orphan status according to the FDA will be partly protected by the dampening options described in section III.B. of this final rule.” On page 66820, remove all Addendum A entries for APC 0916. On page 66983, under CPT/HCPCS code J1785, remove status indicator K and insert status indicator F. Remove the APC number, relative weight, payment amount, and minimum unadjusted copayment. See these changes in Tables 1 and 2.

On page 66778, in the first response in column 1, we erroneously said that APC 312 is the lowest paying brachytherapy APC. Remove the response to the first comment under “Brachytherapy” and replace it with the following: “Response: The time frame of the claims used to set payment rates in the final rule differed from the time frame used in the proposed rule. According to the claims data used for the proposed rule, APC 312 was the lowest paying brachytherapy APC. However, according to the claims data used for the final rule, APC 0313 is the lowest paying brachytherapy APC. Therefore, CPT 77799 will remain in APC 313. This is consistent with our policy of assigning unspecified codes to the lowest paying similar APC because we do not know what procedures are being performed. Moreover, we do not apply the two times rule to unspecified codes like 77799 for the same reason. In 2003, CPT code 77799 is assigned to APC 0313.”

On pages 66779, 66780, and 66781, our discussions of the use of the Red Book in the setting of payment rates for pass-through drugs may have been misleading because we had misunderstandings regarding Red Book publications. The Red Book issues one comprehensive annual printed version, and it was our intent to convey that we relied on the most recent comprehensive annual printed version of the Red Book to set the pass-through payments for drugs for the 2003 OPPS. Our discussions of the Red Book in the November 1, 2002, Federal Register erroneously suggested that we rely on updates other than the comprehensive annual printed version. The corrections below clarify that we rely on the comprehensive annual printed version of the Redbook (which is printed once a year) to set the payment rates for pass-through drugs and that we intend to continue to do so in the future.

On page 66779, in column 3, in the last paragraph, delete the second sentence and insert the following: “We update the APC rates for drugs that are eligible for pass through payments in 2003 using the comprehensive annual printed version of the Red Book.”

On page 66780, remove the following beginning on the first line of column 1 of page 66780: “,* * * when we would again * * * update the AWPs for any pass-through drugs based on the latest quarterly version of the Red Book.” Insert a period.

On page 66781, remove the first paragraph of the response beginning at the bottom of column 1 of page 66781 and insert: “Response: Upon considering the commenters suggestions that we use the October 2002 Red Book to set the pass-through rates for drugs and biologicals, we decided to continue using the comprehensive annual printed version of the Red Book since it is most consistent with our publication schedule. In the future, for all of our final rules that must be published by November, we intend to use the comprehensive annual printed version of the Red Book.”

On page 66781, column 2, last response, remove the response and insert: “Response: As stated elsewhere in this final rule, we update the payment rates for pass-through drugs and biologicals only on an annual basis using the information published in the annual comprehensive printed version of the Red Book. We rely upon the Red Book to accurately reflect information supplied by manufacturers.”

On page 66795, in column 3, in the first comment, we mistakenly said that everyone agreed with our proposal, although we received one comment that opposed the proposed policy, not for reasons related to payment under the OPPS. On page 66795, remove “Everyone” and replace it with “Many commenters.”

On page 66796, in column 2, in the fifth full paragraph, in the last sentence, we mistakenly included the word “final” in describing the diagnosis information needed to justify separate payment for observation services. Our systems review all diagnoses reported on the claim to make this decision. Remove the word “final”.

On page 66815, for APC 0162, we incorrectly stated the relative weight, payment rate, and minimum unadjusted copayment. The values in the November 1, 2002, final rule for this APC were incorrect because we failed to recalculate the values after moving CPT/HCPCS codes into and out of this APC as we discussed in the November 1, 2002, final rule (67 FR 66736, 66746-66749).

Remove the relative weight, payment rate, and minimum unadjusted copayment and replace them with a relative weight of 20.7844, payment rate of $1,083.93, and minimum unadjusted copayment of $216.79. See Table 2—Corrections to Addendum B of the November 1, 2002, Final Rule for corrections to Addendum B for the codes assigned to APC 162.

On page 66815, for APC 0163, we incorrectly stated the relative weight, payment rate, and minimum unadjusted copayment. The values in the November 1, 2002, final rule for this APC were incorrect because we failed to recalculate the values after moving CPT/HCPCS codes into and out of this APC 163 as we discussed in the November 1, 2002, final rule (67 FR 66736, 66746-66749). Remove relative weight, payment rate, and minimum unadjusted copayment and insert a relative weight of 32.2861, payment rate of $1,683.75, and minimum unadjusted copayment of $336.75. See Table 2—Corrections to Addendum B of the November 1, 2002, Final Rule for corrections to Addendum B for the codes assigned to APC.

On page 66816, for APC 0235, we incorrectly stated the relative weight, payment rate, and minimum unadjusted copayment. The values in the November 1, 2002, final rule for this APC were incorrect because we failed to recalculate the values after moving CPT/HCPCS codes into and out of this APC as we discussed in the November 1, 2002, final rule (67 FR 66725, 66746-66749). Remove the relative weight, payment rate, and minimum unadjusted copayment and replace them with a relative weight of 4.9902, payment rate of $260.24, and minimum unadjusted copayment of $72.04. See Table 2—Corrections to Addendum B of the November 1, 2002, Final Rule for corrections to Addendum B for the codes assigned to APC 0235.

On page 66820, under APC 0905, we misstated the correct description of the APC group title. Remove from the group title “Immune globulin 500 mg” and replace it with “Immune globulin, 1 g”. On page 66983, under CPT/HCPCS J1561, we assigned J1561 to an incorrect status indicator. Remove status indicator K and replace it with status indicator E. Remove the APC number, relative weight, payment rate, and minimum unadjusted copayment. Also on page 66983, under HCPCS/CPT J1563, we misstated the correct description of J1563 and did not include the correct payment information. Remove description “IV immune globulin” and status indicator E and replace them with “Immune globulin, 1 g” and status indicator K. Insert APC 0905, relative weight of 0.8333, payment rate of $43.46, and minimum unadjusted copayment of $8.69. The corrections are also shown on Tables 1 and 2 of this correction notice.

On page 66821, for APC 1045, group title Iobenguane sulfate 1-31 per 0.5 mCi, and on page 66958 for CPT/HCPCS code A9508, we stated incorrect values because the limitations on the reduction in median costs were inadvertently omitted. On page 66821, for APC 1045, remove the relative weight, payment rate, and minimum unadjusted copayment and insert a relative weight of 3.8662, payment rate of $201.63, and minimum unadjusted copayment of $40.33. Also, on page 66821, we misstated the correct description of the APC group title. Remove from the group title “I-31per” and replace it with “I-131 per”. On page 66958, for CPT/HCPCS code A9508, remove the relative weight, payment rate, and minimum unadjusted copayment and insert a relative weight of 3.8662, payment rate of $201.63, and minimum unadjusted copayment of $40.33.

As a result of a technical recalculation to Eptifibatide Injection, CPT/HCPCS code J1327, the median cost for this drug exceeds the threshold used for determining whether a drug qualifies for a separate APC. To reflect this change, on page 66821, insert APC 1607, group title of Eptifibatide Injection, 5 mg, status indictor of K, relative weight of 0.1453, payment rate of $7.58, minimum unadjusted copayment of $1.52.

On page 66821, under APC 2616, Brachytx seed, Yttrium-90, and on page 66961, under HCPCS code C2616, we inserted incorrect values. We made an error in calculation of the relative weight, payment rate, and copayment. On page 66821, remove the relative weight, payment amount, and minimum unadjusted copayment and insert a relative weight of 124.3576, payment amount of $6,485.37, and minimum unadjusted copayment amount of $1,297.07. On page 66961, under CPT/HCPCS code C2616, description Brachytx seed, Yttrium-90, remove the relative weight, payment amount, and minimum unadjusted copayment and insert a relative weight of 124.3576, payment amount of $6,485.37, and minimum unadjusted copayment amount of $1,297.07.

On page 66822, for APC 9015, Mycophenolate mofetil oral 250 mg, and on page 66986, under HCPCS code J7517, we failed to include the correct status indicator, relative weight, payment rate, and copayment. Remove the status indicator, relative weight, payment rate, and minimum unadjusted copayment for APC 9015 on page 66822 and insert a status indicator of G, payment rate of $2.53, and minimum unadjusted copayment of $0.38. On page 66986, under CPT/HCPCS code J7517, description Mycophenolate mofetil oral 250 mg, remove the status indicator, relative weight, payment rate, and minimum unadjusted copayment and insert a status indicator of G, payment rate of $2.53, and minimum unadjusted copayment of $0.38. These corrections are also shown in Tables 1 and 2 of this correction notice.

On page 66822, under APC 9112, group title Perflutren lipid micro, per 2 ml, and on page 66961, under HCPCS code C9112, we failed to include the correct payment and copayment rates. On page 66822, remove the payment rate and minimum unadjusted copayment and insert a payment rate of $148.20 and minimum unadjusted copayment of $22.15. On page 66961, under CPT/HCPCS code C9112, description Perflutren lipid micro, per 2 ml, remove the payment rate and minimum unadjusted copayment and insert a payment rate of $148.20 and minimum unadjusted copayment of $22.15. These corrections are also shown in Tables 1 and 2 of this correction notice.

On page 66822 for APC 9114 we incorrectly stated the description of the APC, and we stated incorrect payment and copayment information. On page 66822, remove the description of the APC and the payment and copayment information and insert the following: APC description of Nesiritide, per 0.5 mg vial, payment amount of $144.40, and unadjusted national copayment amount of $21.58. On page 66984 for HCPCS code J2324, we incorrectly stated the description of the HCPCS code, and we stated incorrect payment and copayment information. On page 66984, remove the description of HCPCS code J2324 and the payment and copayment information and insert the following: Description of Nesiritide, per 0.5 mg vial, payment amount of $144.40, and unadjusted national copayment amount of $21.58.

On page 66822 for APC 9115, we incorrectly stated the description of the APC, and we stated incorrect payment and copayment information. On page 66822, remove the description of the APC and the payment and copayment information and insert the following: APC description of Inj, zoledronic acid, per 1 mg, payment amount of $203.39, and unadjusted national copayment amount of $30.40. On page 66985 for HCPCS code J3487, we incorrectly stated the description of the HCPCS code, and we stated incorrect payment and copayment information. Remove the description of HCPCS code J3487 and the payment and copayment information and insert the following: Description of Inj, zoledronic acid, per 1 mg, payment amount of $203.39, and unadjusted national copayment amount of $30.40.

On page 66822, under APC 9120, group title Inj. Fulvestrant, per 50 mg, and on page 66962, under CPT/HCPCS code C9120, we failed to include the correct payment and copayment. Remove the payment rate and minimum unadjusted copayment and insert a payment rate of $175.16 and minimum unadjusted copayment of $26.18. On page 66962, under CPT/HCPCS code C9120, remove the payment rate and minimum unadjusted copayment and insert a payment rate of $175.16 and minimum unadjusted copayment of $26.18. These corrections are also shown in Tables 1 and 2.

On page 66847, we incorrectly assigned status code N to CPT/HCPCS code 27096, inject sacroiliac joint. Two new codes, G0259, inject for sacroiliac joint, and G0260, inject for sacroiliac joint anesthesia, replace CPT code 27096 for reporting these injections in 2003. On page 66847, for CPT/HCPCS 27096, remove the status indicator of N and insert a status indicator of E.

On page 66916, for CPT/HCPCS code 78459, description Heart muscle imaging (PET), we assigned the wrong status indicator and did not include needed payment information. On page 66916, remove the status indicator of E and insert a status indicator of S, APC of 285, relative weight of 18.1294, payment rate of $945.47, national unadjusted copayment of $409.56, and minimum unadjusted copayment of $189.09.

On page 66958, for HCPCS codes A9522 (Indium111ibritumomabtiuxetan) and A9523 (Y-90ibritumomabtiuxetan), we wrongly assigned status indicator E, although the service is paid under the OPPS as a packaged service for which payment is made as a part of a separately billable service. On page 66958, remove the status indicator E and insert status indicator N for both codes. These corrections are also shown in Tables 1 and 2 of this correction notice.

On page 66972, for CPT/HCPCS code E0481, Intrpulmnry percuss vent sys, we wrongly assigned status indicator A, although the service is not covered under Medicare. On page 66972, remove status indicator A and insert status indicator E.

For the following codes on the pages identified, beginning on page 66974 and continuing as noted below on pages 67004, 67005, and 67006, we wrongly assigned status indicator E (not paid under OPPS or not covered) or A (paid under a payment system other than OPPS). These codes are for services that are covered and paid under OPPS but for which payment is packaged into payment for other OPPS services. Therefore, they require the status indicator of “N.” We made this correction on page 66974, for codes E0752, E0756, E0757, E0782, E0783, E0785, E0786; on page 67004, for code L8606; on page 67005, for code L8614; and on page 67006, for codes Q1001, Q1002, Q1003, Q1004, and Q1005. These changes are also shown in Table 2—Corrections to Addendum B of the November 1, 2002, Final Rule for corrections to Addendum B for the codes identified above.

On page 66979, under CPT/HCPCS codes G0237, G0238, and G0239, we inadvertently assigned these codes to the incorrect APC and assigned an incorrect status indicator. Remove APC 0970 (group title New Technology Level I ($0-$50)) and status indicator T and insert APC 0706 (group title New Technology Level I) and status indicator of S. These corrections are also shown in Table 2 of this correction notice.

On pages 66979 and 66980, for CPT/HCPCS codes G0281, G0282, and G0283, we assigned the wrong status indicator. Remove the status indicator A. Insert the status indicator E. These codes are not effective for January 1, 2003; they are effective April 1, 2003.

On page 66979, for CPT/HCPCS code G0252, PET imaging initial dx, we incorrectly assigned a status indicator, APC, payment rate, and minimum unadjusted copayment. G0252 represents a noncovered condition under Medicare coverage policy and no payment should be made for this service. Remove status indicator S, APC, payment rate, and minimum unadjusted copayment and insert status indicator E.

On page 66983, for CPT/HCPCS code J1327, remove status indicator of N and insert status indicator of K, APC of 1607, relative weight of 0.1453, payment rate of $7.58, minimum unadjusted copayment of $1.52. This change results from the change relating to Eptifibatide Injection discussed above.

On page 66984, for CPT/HCPCS code J2260, Inj, milrinone lactate /5ml, we incorrectly stated the description. Remove “ml” and insert “mg”.

On page 67006, for CPT/HCPCS code Q0184, Metabolically active tissue, we failed to include a condition code to indicate that the grace period applies, although the code is removed for 2003. Insert condition code DG.

III. Waiver of Proposed Rulemaking and Waiver of 30-Day Delay in Effective Date

We ordinarily publish a notice of proposed rulemaking in the Federal Register to provide a period for public comment before the provisions of a notice take effect. We can waive this procedure, however, if we find good cause that notice and comment procedure is impracticable, unnecessary, or contrary to the public interest and incorporate a statement of the finding and the reasons for it into the notice issued.

In addition, we ordinarily provide a 30-day delay in the effective date of the provisions of a notice. Section 553(d) of the Administrative Procedure Act (5 U.S.C. section 553(d)) ordinarily requires a 30-day delay in the effective date of final rules after the date of their publication in the Federal Register. This 30-day delay in effective date can be waived, however, if an agency finds for good cause that the delay is impracticable, unnecessary, or contrary to the public interest, and the agency incorporates a statement of the finding and its reasons in the rule issued.

In this case, we believe that it is in the public interest to make the corrections we identify above effective on January 1, 2003, without the 30-day delay in effective date because to fail to do so would result, in most cases, in underpayment of hospitals beginning January 1, 2003, with the implementation of the updated OPPS rates. If we did not make these changes, hospitals would be paid improperly, access to care may be impeded for beneficiaries, and the preamble would not correctly explain the reasons for changes to policy that were made in response to comments. In most cases, these errors were the result of errors in mathematical calculations, inadvertent publication of language we did not intend to publish, failure to apply policies that we stated in the final rule had been applied, typographic errors, or misstatements of fact. These corrections do not cause reductions in payment for any other services.

We also find it unnecessary to undertake notice and comment rulemaking procedures because the corrections in this notice are technical in nature, reflecting the proper application of the policies in the November 1, 2002, final rule, and do not change any of the policies therein. Therefore, we find good cause to waive notice and comment procedures and to waive the 30-day delay in effective date.

(Catalog of Federal Domestic Assistance Program No. 93.773, Medicare—Hospital Insurance; and Program No. 93.774, Medicare—Supplementary Medical Insurance Program)
Dated: January 29, 2003.
Ann Agnew,
Executive Secretary to the Department.

Note: The following tables are published for the convenience of the reader. These tables reflect corrections made in section II of the SUPPLEMENTARY INFORMATION.

BILLING CODE 4120-01-P

[FR Doc. 03-2789 Filed 2-7-03; 8:45 am]

BILLING CODE 4120-01-C